DEPARTMENT OF COMMERCE

National Oceanic and Atmospheric Administration

50 CFR Part 600

[I.D. 020403A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that an EFP application from the Maine Department of Marine Resources (Maine DMR) contains all the required information and warrants further consideration. The Regional Administrator has also made a preliminary determination that the activities authorized under the EFP would be consistent with the goals and objectives of the Northeast (NE) Multispecies Fishery Management Plan (FMP), and does not detrimentally affect the well being of any stock of fish likely to be taken during the experiment. Therefore, NMFS announces that the Regional Administrator proposes to issue an EFP that would allow one vessel to conduct fishing operations that are otherwise restricted by the regulations governing the fisheries of the NE United States. The EFP would allow for an exemption from the NE multispecies small mesh northern shrimp fishery exemption area time restrictions. The exempted fishing activity would support research to test a dual panel single Nordmore grate system for commercial northern shrimp, Pandalus borealis, in the Gulf of Maine. The system is intended to separate small shrimp and fish from market-sized shrimp in trawl nets by separating the catch using a Nordmore grate with two sets of bar spacings. Regulations under the Magnuson-Stevens Fishery Conservation and Management Act require publication of this notification to provide interested parties the opportunity to comment on applications for proposed EFPs.

DATES: Comments on this document must be received on or before March 13, 2003.

ADDRESSES: Written comments should be sent to Patricia A. Kurkul, Regional Administrator, NMFS, Northeast Regional Office, 1 Blackburn Drive, Gloucester, MA 01930. Mark the outside of the envelope “Comments on Maine Department of Marine Resources Northern Shrimp dual panel single Nordmore grate EFP Proposal.” Comments may also be sent via facsimile (fax) to (978) 281-9135.

FOR FURTHER INFORMATION CONTACT: Jason Blackburn, Fishery Management Specialist, 978-281-9326.

SUPPLEMENTARY INFORMATION: The application for an EFP was submitted by the Maine DMR for research being funded by the Northeast Consortium. The applicant is requesting an exemption for one commercial vessel from the NE multispecies small mesh northern shrimp fishery exemption area time restrictions at 50 CFR 648.80(a)(5)(iii) for 26 days of at-sea gear testing.

The objective of the research is to test a dual panel single Nordmore grate system for the purposes of separating small shrimp and most fish from market-sized shrimp in trawl nets by separating the catch using a Nordmore grate with two sets of bar spacings. The experimental design consists of a trouser trawl net utilizing a Nordmore grate with two panels. The upper panel, which the catch in the net will encounter first, has small bar spacing that will let small shrimp and small fish pass through and escape the net, as the codend is tied to the grate below this panel. Anything larger will slide down the bars to the next panel, where the bar spacing is the normal 1-inch. The market sized shrimp and like sized bycatch will pass through these bars and flow back into the codend. Anything larger will slide down the bars and escape through the exit hole in the bottom of the net.

The sea trials would be conducted off the coast of Maine, in the Gulf of Maine Small Mesh Northern Shrimp Exemption Area, during April and May 2003, outside of the fishing season for northern shrimp (January 15 to February 27, 2003). This is the time of year when the various size classes of shrimp are located in the same areas of the Gulf of Maine.

No shrimp or fish will be landed during this study. It is estimated that the total catch of northern shrimp will be 21,632 lb (9,812 kg), with an estimated bycatch of 1,730 lb (785 kg) of whiting, 108 lb (49 kg) of herring, 108 lb (49 kg) of alewife, and a minimal amount of other species. A scientist would be aboard the vessel during all experimental sea trials.

This experimental work is important because it could lead to the development of gear that could improve the size selection of the shrimp nets for northern shrimp and reduce the inadvertent bycatch of fish species. The successful development of a dual panel single Nordmore grate device could provide the fishing industry with a highly selective device that functions similarly to a double Nordmore grate system, while being less cumbersome to rig and handle on deck.

Based on the results of this EFP, this action could lead to future rulemaking.

Authority: 16 U.S.C. 1801 et seq.

Dated: February 19, 2003.
Richard W. Surdi,
Acting Director, Office of Sustainable Fisheries, National Marine Fisheries Service.

[FR Doc. 03-4439 Filed 2-25-03; 8:45 am]

BILLING CODE 3510-22-S